DEPARTMENT OF THE INTERIOR

National Park Service

Notice of Intention To Extend a Concession Contract at Crater Lake National Park

SUMMARY: Pursuant to the National Park Service Concessions Management Improvement Act of 1998, notice is hereby given that the National Park Service intends to extend the concession contract with Crater Lake Lodge, Inc., authorizing continuation of visitor services which include lodging, food service, campground, gasoline service, retail merchandise, and boat tour services within Crater Lake National Park. This short-term extension is necessary to avoid an interruption of public services while the National Park Service finalizes and issues a Prospectus soliciting offers to provide these services under a new longer-term contract. This short-term extension will be for a one-year period beginning November 1, 2000. This notice is in pursuant to 36 CFR part 51, section 51.23.

SUPPLEMENTARY INFORMATION: The concession contract at Crater Lake National Park will expire on October 31, 2000. The National Park Service is in the process of completing the necessary documents to competitively award a new longer-term concession contract. This 1-year extension is necessary to allow for completion and issuance of the Prospectus, leading to the selection of a concessioner for a new longer-term concession contract.

Information about this notice can be sought from: National Park Service, Chief, Concession Program Management Office, Pacific West Region, Attn: Mr. Tony Sisto, 600 Harrison Street, Suite 600, San Francisco, California 94107-1372 or call (415) 427-1366.

Dated: September 14, 2000.
Cynthia Ip,
Acting Regional Director, Pacific West Region.

[FR Doc. 00-24501 Filed 9-22-00; 8:45 am]

BILLING CODE 4310-70-P